DEPARTMENT OF ENERGY

Federal Energy Regulatory Commission

[Project No. 4472-031]

Union Falls Hydropower, L.P.; Notice of Application Ready for Environmental Analysis and Soliciting Comments, Recommendations, Terms and Conditions, and Prescriptions

Take notice that the following hydroelectric application has been filed with the Commission and is available for public inspection.

a. Type of Application: New Major License.

b. Project No.: 4472-031.

c. Date Filed: June 30, 2022.

d. Applicant: Union Falls Hydropower, L.P. (Union Falls).

e. Name of Project: Saranac Hydroelectric Project (Saranac Project or project).

f. Location: The existing project is located on the Saranac River in Franklin and Clinton Counties, New York.

g. Filed Pursuant to: Federal Power Act, 16 U.S.C. 791 (a)-825(r).

h. Applicant Contact: Ms. Sherri Loon, Coordinator—Operations USA, Kruger Energy, 423 Brunswick Ave., Gardiner, ME 04345; phone: (207) 203-3026; email: Sherri.Loon@kruger.com.

i. FERC Contact: Joshua Dub at (202) 502-8138, or email at joshua.dub@ferc.gov.

j. Deadline for filing comments, recommendations, terms and conditions, and prescriptions: 60 days from the issuance date of this notice; reply comments are due 105 days from the issuance date of this notice.

The Commission strongly encourages electronic filing. Please file comments, recommendations, terms and conditions, and prescriptions using the Commission's eFiling system at https://ferconline.ferc.gov/FERCOnline.aspx. Commenters can submit brief comments up to 6,000 characters, without prior registration, using the eComment system at https://ferconline.ferc.gov/QuickComment.aspx. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Acting Secretary, Federal Energy Regulatory Commission, 888 First Street NE, Room 1A, Washington, DC 20426. Submissions sent via any other carrier must be addressed to: Debbie-Anne A. Reese, Acting Secretary, Federal Energy Regulatory Commission, 12225 Wilkins Avenue, Rockville, Maryland 20852. All filings must clearly identify the project name and docket number on the first page: Saranac Hydroelectric Project (P-4472-031).

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted for filing and is now ready for environmental analysis.

l. Project Description: The Saranac Project includes a 520.5-foot-long concrete dam that includes: (1) a 198-foot-long west abutment; (2) a 36.5-foot-long, 29.7-foot-high intake structure with two 15.25-foot-wide, 14.62-foot-high headgates that each control flow to a 10.5-foot-wide, 8-foot-high intake opening equipped with a 12-foot-wide, 25-foot-high trashrack with 1-inch clear bar spacing; (3) a 151-foot-long, 24-foot-high section with a 147-foot-long ogee spillway with 1-foot-high flashboards that have a crest elevation of 1,409.49 feet National Geodetic Vertical Dam of 1929 (NGVD 29), and two 5-foot-wide, 5-foot-high low-level outlet gates; and (4) a 135-foot-long east abutment. The dam creates an impoundment that has a surface area of approximately 1,630 acres at an elevation of 1409.49 feet NGVD 29.

From the impoundment, water flows through the intake structure to a 1,433-foot-long, 11-foot-diameter steel penstock that bifurcates into two 71-foot-long, 7-foot-diameter gated sections. The penstock is equipped with a 30-foot-high, 2.5-foot-diameter surge vent that is located in a 15-foot-wide, 15-foot-long wooden vent house located approximately 550 feet downstream of the intake structure.

The penstock conveys water to two 1.3-megawatt (MW) horizontal Kaplan turbine-generator units located in an approximately 62-foot-wide, 40-foot-long concrete and masonry powerhouse that has a total installed capacity of 2.6 MW. Water is discharged from the turbines through draft tubes to an approximately 50-foot-long tailrace that discharges to the Saranac River. The project creates an approximately 1,840-foot-long bypassed reach.

The project includes a 36.5-foot-wide, 17-foot-high intake gatehouse at the intake structure. The project generators are connected to the regional electric grid by a 90-foot-long, 4.16-kilovolt (kV) underground transmission line and a 4.16/46-kV step-up transformer. There are no project recreation facilities.

The minimum and maximum hydraulic capacities of the powerhouse are 100 and 710 cubic feet per second (cfs), respectively. The average annual energy production of the Saranac Project from 2017 through 2023 was 783 megawatt-hours.

The current license requires Union Falls to install flashboards annually by the first week of June, unless flow conditions warrant otherwise. From October through May, the license requires Union Falls to maintain the surface elevation of the impoundment at the spillway crest elevation of 1,408.49 feet NGVD 29, with a maximum daily drawdown of 3 inches and a maximum total drawdown of 6 inches below the crest. From June through September, the license requires Union Falls to maintain the surface elevation of the impoundment at the flashboard crest elevation of 1,409.49 feet NGVD 29, with a maximum daily drawdown of 3 inches and a maximum total drawdown of 6 inches below the crest.

The current license requires the following minimum flow releases from the project dam: (1) 30 cfs from April 1 through June 30; and (2) 10 cfs from July 1 through March 31. The current license also requires a minimum flow of 165 cfs or inflow to the impoundment, whichever is less, from the project to the Saranac River downstream of the tailrace, including the minimum flow releases from the project dam. Union Falls releases the minimum bypassed reach flows through the low-level outlet gates in the project dam.

Union Falls does not propose to add any new project facilities or make any changes to the project boundary.

On August 3, 2023, Union Falls filed a Settlement Agreement for the project's relicense proceeding, on behalf of itself; the U.S. Fish and Wildlife Service; the New York State Department of Environmental Conservation; and Trout Unlimited. As part of the Settlement Agreement, Union Falls proposes to: (1) operate the project in a run-of-river mode, such that outflow from the project approximates inflow to the impoundment at any given time and the surface elevation of the impoundment is maintained within 1 inch of the crest of the spillway or flashboards, if present; (2) release a year-round minimum flow of 50 cfs or inflow to the impoundment, whichever is less, from the project dam to the bypassed reach; (3) release a minimum flow of 165 cfs or inflow to the impoundment, whichever is less, to the Saranac River downstream of the tailrace, including minimum flow releases from the project dam; (4) continue to maintain 1-inch trashracks to protect fish; (5) develop an operation compliance monitoring plan; (6) install directional signage for the canoe portage trail and tailrace parking area; and (7) implement the following plans filed with the Settlement Agreement: Bald Eagle Management Plan, Invasive Species Management Plan, and Impoundment Drawdown Plan.

m. A copy of the application can be viewed on the Commission's website at http://www.ferc.gov using the “eLibrary” link. Enter the docket number excluding the last three digits in the docket number field to access the document. For assistance, contact FERC Online Support.

All filings must (1) bear in all capital letters the title “COMMENTS,” “REPLY COMMENTS,” “RECOMMENDATIONS,” “TERMS AND CONDITIONS,” or “PRESCRIPTIONS;” (2) set forth in the heading the name of the applicant and the project number of the application to which the filing responds; (3) furnish the name, address, and telephone number of the person submitting the filing; and (4) otherwise comply with the requirements of 18 CFR 385.2001 through 385.2005. All comments, recommendations, terms and conditions or prescriptions must set forth their evidentiary basis and otherwise comply with the requirements of 18 CFR 4.34(b). Agencies may obtain copies of the application directly from the applicant. Each filing must be accompanied by proof of service on all persons listed on the service list prepared by the Commission in this proceeding, in accordance with 18 CFR 4.34(b) and 385.2010.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

You may also register online at https://ferconline.ferc.gov/FERCOnline.aspx to be notified via email of new filings and issuances related to this or other pending projects. For assistance, contact FERC Online Support.

n. The applicant must file no later than 60 days following the date of issuance of this notice: (1) a copy of the water quality certification; (2) a copy of the request for certification, including proof of the date on which the certifying agency received the request; or (3) evidence of waiver of water quality certification.

o. Procedural Schedule: The application will be processed according to the following schedule. Revisions to the schedule will be made as appropriate.

Milestone | Target date
Filing of Comments, Recommendations, Terms and Conditions, and Prescriptions | April 2024.
Filing of Reply Comments | June 2024.

Dated: February 29, 2024.
Debbie-Anne A. Reese,
Acting Secretary.

[FR Doc. 2024-04809 Filed 3-6-24; 8:45 am]

BILLING CODE 6717-01-P